DEPARTMENT OF TRANSPORTATION

Federal Motor Carrier Safety Administration

[Docket No. FMCSA—2005—20560]

Qualification of Drivers; Exemption Applications; Vision; Withdrawal

AGENCY: Federal Motor Carrier Safety Administration (FMCSA), DOT.

ACTION: Withdrawal of notice of applications for exemption from the vision standard.

SUMMARY: The Federal Motor Carrier Safety Administration (FMCSA) withdraws a notice of applications for exemption from the vision standard with request for comments published on May 17, 2005. The notice was published in error.

DATES: The notice of applications with request for comments published on May 17, 2005 (70 FR 28348), is withdrawn effective May 17, 2005.

FOR FURTHER INFORMATION CONTACT: Dr. Mary D. Gunnels, Office of Bus and Truck Standards and Operations, (202) 366-4001, FMCSA, Department of Transportation, 400 Seventh Street, SW., Washington, DC 20590-0001. Office hours are from 8 a.m. to 5 p.m., e.t., Monday through Friday, except Federal holidays.

Issued on: May 23, 2005.
Rose A. McMurray,
Associate Administrator, Policy and Program Development.

[FR Doc. 05-10690 Filed 5-27-05; 8:45 am]

BILLING CODE 4910-EX-P